DEPARTMENT OF TRANSPORTATION

Federal Aviation Administration

14 CFR Part 71

[Docket No. FAA-2011-1386; Airspace Docket No. 11-ANE-11]

RIN 2120-AA66

Modification, Revocation and Establishment of Air Traffic Service Routes; Windsor Locks Area; CT

AGENCY: Federal Aviation Administration (FAA), DOT.

ACTION: Final rule; correction.

SUMMARY: This action corrects a final rule published in the Federal Register on April 5, 2012, that amends the airway structure in the vicinity of Windsor Locks, CT, due to the planned decommissioning of the Bradley VHF omnirange/tactical air navigation aid. This action corrects the longitude coordinate for one point in the description of area navigation (RNAV) route T-300.

DATES: Effective date 0901 UTC, May 31, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

On April 5, 2012, the FAA published a final rule in the Federal Register amending four VOR Federal airways, revoking one VOR Federal airway, and establishing three area navigation (RNAV) routes in the vicinity of Windsor Locks, CT (77 FR 20528). Subsequent to publication, an error was discovered in the longitude coordinate for the Norwich, CT, VOR/DME navigation aid in the description of RNAV route T-300. The published longitude of 72°59′58″ W. should read 71°59′58″ W.

Area Navigation Routes are published in paragraph 6011 of FAA Order 7400.9V, dated August 9, 2011, and effective September 15, 2011, which is incorporated by reference in 14 CFR 71.1. The RNAV route listed in this document will be published subsequently in the Order.

Correction to Final Rule

Accordingly, pursuant to the authority delegated to me, the longitude coordinate for the Norwich, CT VOR/DME as published in the Federal Register on April 5, 2010 (77 FR 20528) (FR Doc. 2012-8183) for RNAV route T-300, is corrected under the description as follows:

Paragraph 6011 United States area navigation routes

* * * * *

T-300 [Corrected]

On page 20530, line 30, remove “Norwich, CT (ORW) VOR/DME (lat. 41°33′23″ N., long. 72°59′58″ W.)” and insert “Norwich, CT (ORW) VOR/DME (lat. 41°33′23″ N., long. 71°59′58″ W.)

Issued in Washington, DC, on April 12, 2012.
Ellen Crum,
Acting Manager, Airspace, Regulations and ATC Procedures Group.

[FR Doc. 2012-9187 Filed 4-17-12; 8:45 am]

BILLING CODE 4910-13-P